DEPARTMENT OF COMMERCE

International Trade Administration

[A-427-801, A-428-801, A-475-801]

Ball Bearings and Parts Thereof from France, Germany, and Italy: Extension of Time Limit for Preliminary Results of Antidumping Duty Administrative Reviews

AGENCY: Import Administration, International Trade Administration, Department of Commerce.

DATES: Effective Date: March 21, 2012.

FOR FURTHER INFORMATION CONTACT: Hermes Pinilla, AD/CVD Operations, Office 1, Import Administration, International Trade Administration, U.S. Department of Commerce, 14th Street and Constitution Avenue NW., Washington, DC 20230; telephone: (202) 482-3477.

SUPPLEMENTARY INFORMATION:

Background

At the request of interested parties, the Department of Commerce (the Department) initiated administrative reviews of the antidumping duty orders on ball bearings and parts thereof from France, Germany, Italy, Japan, and the United Kingdom for the period May 1, 2010, through April 30, 2011.¹ On January 18, 2012, we published a notice in the Federal Register extending the deadline for the preliminary results to March 31, 2012.²

¹ See Initiation of Antidumping and Countervailing Duty Administrative Reviews and Request for Revocation in Part, 76 FR 37781 (June 28, 2011). See also Ball Bearings and Parts Thereof From Japan and the United Kingdom: Revocation of Antidumping Duty Orders, 76 FR 41761 (July 15, 2011), where we revoked the antidumping duty orders with respect to ball bearings and parts thereof from Japan and the United Kingdom. In the Federal Register notice we indicated that, as a result of the revocation, the Department is discontinuing all unfinished administrative reviews immediately and will not initiate any new administrative reviews of the orders.

² See Ball Bearings and Parts Thereof from France, Germany, and Italy: Extension of Time Limit for Preliminary Results of Antidumping Duty Administrative Reviews, 77 FR 2511 (January 18, 2012).

Extension of Time Limit for Preliminary Results

Section 751(a)(3)(A) of the Tariff Act of 1930, as amended (the Act), requires the Department to complete the preliminary results within 245 days after the last day of the anniversary month of an order for which a review is requested. If it is not practicable to complete the review within this time period, section 751(a)(3)(A) of the Act allows the Department to extend the time limit for the preliminary results to a maximum of 365 days after the last day of the anniversary month.

We determine that it is not practicable to complete the preliminary results of these reviews within the original time limit because there are concurrent cases before Office 1 (the office responsible for the AFB orders) with numerous complex issues. Furthermore, these concurrent cases have fully extended deadlines that are proximate to the current deadline in these reviews making it impracticable for Office 1 to complete these ball-bearings reviews within the current deadline. For example, Office 1 has the antidumping duty investigations on certain steel nails from the United Arab Emirates and certain stilbenic optical brightening agents from Taiwan, the countervailing duty investigations on circular welded carbon-quality steel pipe from India, the Sultanate of Oman, the United Arab Emirates, and the Socialist Republic of Vietnam, and in the antidumping duty administrative review of freshwater crawfish tail meat from the People's Republic of China, all of which involve complex issues and all of which have fully extended deadlines which are within two weeks of the current deadline for the preliminary results in these reviews. Therefore, we are extending the time period for issuing the preliminary results of these reviews by an additional 60 days, which is 365 days after the last day of the anniversary month, until May 30, 2012.

This notice is published in accordance with section 751(a)(3)(A) of the Act and 19 CFR 351.213(h)(2).

Dated: March 14, 2012.
Gary Taverman,
Acting Deputy Assistant Secretary for Antidumping and Countervailing Duty Operations.

[FR Doc. 2012-6817 Filed 3-20-12; 8:45 am]

BILLING CODE 3510-DS-P